DEPARTMENT OF AGRICULTURE

Natural Resources Conservation Service

[Docket No. NRCS-2018-0006]

Notice of Recommended Standard Methods for Use as Soil Health Indicator Measurements

AGENCY: Natural Resources Conservation Service (NRCS), U.S. Department of Agriculture (USDA).

ACTION: Notice of availability of proposed technical note “Recommended Soil Health Indicators and Associated Laboratory Procedures” for public review and comment.

SUMMARY: Notice is hereby given of the intention of NRCS to issue a technical note on a group of recommended standard methods for soil health indicators selected by a collaborative multi-organizational effort, as described in the document. USDA/NRCS and partner efforts to assess soil health problems and impacts of management nationally, as part of conservation planning and implementation, will be facilitated if soil health indicators are measured using a standard set of methods. Soil health is defined as the capacity of the soil to function as a vital living ecosystem to sustain plants, animals, and humans. Six key soil physical and biological processes were identified that must function well in a healthy soil, and therefore would especially benefit from measurement methods standardization: (1) Organic matter dynamics and carbon sequestration, (2) soil structural stability, (3) general microbial activity, (4) C food source, (5) bioavailable N, and (6) microbial community diversity. The chosen methods met several criteria including indicator effectiveness with respect to management sensitivity and process interpretability, ease of use, cost effectiveness, measurement repeatability, and ability to be used for agricultural management decisions. The soil health indicator methods included are soil organic carbon (dry combustion), water-stable aggregation (Mikha and Rice, 2004), short-term mineralizable carbon (Schindelbeck et al., 2016), four enzymes: β-glucosidase (Deng and Popova, 2011), N-acetyl-β-D-glucosaminidase (Deng and Popova, 2011), acid or alkaline phosphatase (Acosta-Martínez and Tabatabai, 2011), and arylsulfatase (Klose et al., 2011), permanganate oxidizable carbon (Schindelbeck et al. 2016), autoclaved citrate extractable (ACE) protein (Schindelbeck et al. 2016), and phospholipid fatty acid analysis (Buyer and Sasser 2012). Standard operating procedures to be used in laboratories have been provided in the appendices.

DATES:

Applicable Date: This is Applicable September 14, 2018.

Comment Date: Submit comments on or before December 13, 2018. A final version of this technical note will be published after the close of the 90-day period and after consideration of all comments.

ADDRESSES:

Obtaining Documents: You may download the draft Technical Note at https://go.usa.gov/xUFJE.

Comments should be submitted, identified by Docket Number NRCS-2018-0006, using any of the following methods:

• Federal eRulemaking Portal: http://www.regulations.gov. Follow the instructions for submitting comments.

• Mail or hand-delivery: Public Comments Processing, Attention: Regulatory and Agency Policy Team, Strategic Planning and Accountability, Natural Resources Conservation Service, 5601 Sunnyside Avenue, Building 1-1112D, Beltsville, Maryland 20705.

NRCS will post all comments on http://www.regulations.gov. In general, personal information provided with comments will be posted. If your comment includes your address, phone number, email, or other personal identifying information (PII), your comments, including PII, may be available to the public. You may ask in your comment that your PII be withheld from public view, but this cannot be guaranteed.

FOR FURTHER INFORMATION CONTACT: Dr. Diane Stott, National Soil Health Specialist, Soil Health Division, U.S. Department of Agriculture, Natural Resources Conservation Service, 915 W State Street, West Lafayette, IN 47907, diane.stott@in.usda.gov.

Electronic copies can be downloaded or printed from https://go.usa.gov/xUFJE.

Requests for paper versions may be directed to: Public Comments Processing, Attention: Regulatory and Agency Policy Team, Strategic Planning and Accountability, Natural Resources Conservation Service, 5601 Sunnyside Avenue, Building 1-1112D, Beltsville, Maryland 20705.

Signed this 28th day of August 2018, in Washington, DC.
Leonard Jordan,
Acting Chief, Natural Resources Conservation Service.

[FR Doc. 2018-19985 Filed 9-13-18; 8:45 am]

BILLING CODE 3410-16-P